DEPARTMENT OF HEALTH AND HUMAN SERVICES

National Institutes of Health

National Cancer Institute; Amended Notice of Meeting

Notice is hereby given of a change in the meeting of the Frederick National Laboratory Advisory Committee to the National Cancer Institute, February 24, 2022, 1:00 p.m. to February 24, 2022, 4:30 p.m., National Cancer Institute Shady Grove, 9609 Medical Center Drive, Rockville, MD 20850 which was published in the Federal Register on February 4, 2022, FR Doc 2022-02367, 87 FR 6617.

This notice is being amended to change the meeting end time from 4:30 p.m. to 4:00 p.m. The meeting will now be held from 1:00 p.m. to 4:00 p.m. The meeting is open to the public.

Dated: February 14, 2022.
Melanie J. Pantoja,
Program Analyst, Office of Federal Advisory Committee Policy.

[FR Doc. 2022-03433 Filed 2-16-22; 8:45 am]

BILLING CODE 4140-01-P